DEPARTMENT OF DEFENSE

Department of the Army

[Docket ID USA-2012-0006]

Proposed Collection; Comment Request

AGENCY: Office of the Administrative Assistant to the Secretary of the Army, (OAA-AAHS), DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 25, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write Arlington National Cemetery (ANC), Communications Director, ATTN: Kennon Artis, Arlington, Virginia 22211, or call Department of the Army reports clearance officer at (703) 428-6440.

Title, Associated Form, and OMB Number: Arlington National Cemetery Stakeholder Survey OMB Control Number 0702- TBD.

Needs and Uses: As a way to gather feedback on stakeholders' perceptions of Arlington National Cemetery (ANC) and ANC activities, the Cemetery wishes to field a biannual survey among the following stakeholder groups: Veterans, families of veterans, Congress, visitors to ANC (including families and students), veterans service organizations (VSO's) and DoD leadership commands. A trend analysis over time will help provide useful feedback and help shape future (outreach) activities and inform future choices.

Affected Public: Individual or household.

Annual Burden Hours: 765.

Number of Respondents: 7,650.

Responses per Respondent: 1.

Average Burden per Response: 6 minutes.

Frequency: Semi-annual.

SUPPLEMENTARY INFORMATION: Arlington National Cemetery (ANC) is the preeminent institution for interring our nation's heroes. ANC cares about the families (friends) of those laid to rest there. ANC represents a good destination to Explore the Nation's history. In an area of 624 acres veterans and military casualties from each of the nation's wars are interred in the cemetery ranging from the American Civil War through to the military actions in Afghanistan and Iraq.

Dated: February 15, 2012.
Patricia Toppings,
OSD Federal Register, Liaison Officer, Department of Defense.

[FR Doc. 2012-7074 Filed 3-23-12; 8:45 am]

BILLING CODE 5001-06-P